FEDERAL COMMUNICATIONS COMMISSION

47 CFR Part 1

[CS Docket No. 97-151; FCC 98-20]

Practice and Procedure; Pole Attachment Complaint Procedures; Allocation of Unusable Space Costs

AGENCY: Federal Communications Commission.

ACTION: Final rule; announcement of effective date.

SUMMARY: This document announces the approval by the Office of Management and Budget (OMB) on July 22, 1998 of the information collection requirements in an added section. These requirements were contained in the Commission's Report and Order in CS Docket No. 97-151 that was released on February 6, 1998 and published in the Federal Register on March 12, 1998. The Report and Order describes rules and policies concerning a methodology for just and reasonable rates for pole attachments, conduits, and rights-of-way for telecommunications carriers. A section was added as part of the Report and Order at and sets forth the allocation of unusable space costs in the pole attachment rate formula for any telecommunications carrier or cable operator providing telecommunications services.

DATES: Section 1.1417, added at 63 FR 12026, March 12, 1998, has been approved by OMB and is effective March 12, 2013.

SUPPLEMENTARY INFORMATION: On July 22, 1998, OMB approved the information collection requirements contained in § 1.1417 of title 47 of the United States Code as a revision to OMB Control Number 3060-0392.

These information collection requirements required OMB approval to become effective. The Commission publishes this document as an announcement of that approval. If you have any comments on the burden estimates listed below, or how the Commission can improve the collections and reduce any burdens caused thereby, please contact Thomas Butler, Federal Communications Commission, Room 5-C458, 445 12th Street SW., Washington, DC 20554. Please include the OMB Control Number 3060-0392 in your correspondence. The Commission will also accept your comments via the Internet if you send them to PRA@fcc.gov. To request materials in accessible formats for people with disabilities (Braille, large print, electronic files, audio format), send an email to fcc504@fcc.gov or call the Consumer & Governmental Affairs Bureau at (202) 418-0530 (voice, (202) 419-0432 (TTY).

Synopsis: As required by the Paperwork Reduction Act of 1995 (44 U.S.C. 3507), the FCC is notifying the public that it received OMB approval for the information collection requirements described above. The OMB Control Number is 3060-0392. The total annual reporting burden for respondents for this collection of information, including the time for gathering and maintaining the collection of information, has been most recently approved to be 1,772 responses, for a total of 2,629 hours and $450,000 in annual costs.

An agency may not conduct or sponsor a collection of information unless it displays a currently valid OMB control number. No person shall be subject to any penalty for failing to comply with a collection of information subject to the Paperwork Reduction Act that does not display a valid control number. The foregoing notice is required by the Paperwork Reduction Act of 1995, Public Law 104-13, October 1, 1995, and 44 U.S.C. 3507.

Federal Communications Commission.
Sheryl D. Todd,
Deputy Secretary.

[FR Doc. 2013-05668 Filed 3-11-13; 8:45 am]

BILLING CODE 6712-01-P